OFFICE OF PERSONNEL MANAGEMENT

Submission for Review: Self-Certification of Full-Time School Attendance for the School Year, RI 25-14 and Information; and Instructions for Completing the Self-Certification of Full-Time School Attendance for the School Year, RI 25-14A

AGENCY: U.S. Office of Personnel Management.

ACTION: 60-Day Notice and request for comments.

SUMMARY: The Retirement Services, Office of Personnel Management (OPM) offers the general public and other Federal agencies the opportunity to comment on an extension, without change, of a currently approved information collection request (ICR) 3206-0032, Self-Certification of Full-Time School Attendance For The School Year, RI 25-14; and Information and Instructions for Completing the Self-Certification of Full-Time School Attendance For The School Year, RI 25-14A. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of functions of OPM, including whether the information will have practical utility;

2. Evaluate the accuracy of the OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until November 8, 2013. This process is conducted in accordance with 5 CFR 1320.1.

ADDRESSES: Interested persons are invited to submit written comments on the proposed information collection to the U.S. Office of Personnel Management, Retirement Services, Union Square 370, 1900 E Street NW., Washington, DC 20415-3500, Attention: Alberta Butler or sent by email to Alberta.Butler@opm.gov.

FOR FURTHER INFORMATION CONTACT: A copy of this ICR, with applicable supporting documentation, may be obtained by contacting the U.S. Office of Personnel Management, Retirement Services Publications Team, 1900 E Street NW., Room 4445-P, Washington, DC 20415, Attention: Cyrus S. Benson, or sent by email to Cyrus.Benson@opm.gov or faxed to (202) 606-0910.

SUPPLEMENTARY INFORMATION: RI 25-14 is used to survey survivor annuitants who are between the ages of 18 and 22 to determine if they meet the requirements of Section 8341(a)(4)(C), and Section 8441, title 5, U.S. Code, to receive benefits as a student. RI 25-14A provides instructions for completing the Self-Certification of Full-Time School Attendance For The School Year survey form.

Analysis

Agency: Retirement Operations, Retirement Services, Office of Personnel Management.

Title: Self-Certification of Full-Time School Attendance For The School Year and Information and Instructions for Completing the Self-Certification of Full-Time School Attendance For The School Year.

OMB Number: 3206-0032.

Frequency: On occasion.

Affected Public: Individuals or Households.

Number of Respondents: 14,000.

Estimated Time per Respondent: 12 minutes.

Total Burden Hours: 2,800.

U.S. Office of Personnel Management.
Elaine Kaplan,
Acting Director.

[FR Doc. 2013-21871 Filed 9-6-13; 8:45 am]

BILLING CODE 6325-38-P